DEPARTMENT OF AGRICULTURE

Rural Telephone Bank

Sunshine Act; Meeting

AGENCY: Rural Telephone Bank, USDA.

ACTION: Privatization Committee Meeting.

Time and Date: 8:30 a.m., Tuesday, May 7, 2002.

Place: Conference Room 5030-South Building, U.S. Department of Agriculture, 1400 Independence Avenue, SW., Washington, DC.

Status: Open.

Matters to Be Discussed: The business advisor will present reports on projects completed to date and discuss the proposed outreach program, operational blueprint, and legislative review requirements.

ACTION: Staff Briefing for the Board of Directors.

Time and Date: 2 p.m., Tuesday, May 7, 2002.

Place: Conference Room 5030-South Building, U.S. Department of Agriculture, 1400 Independence Avenue, SW., Washington, DC.

Status: Open.

Matters to Be Discussed: 1. Progress report on privatization study.

2. Office of the Inspector General's audit report on fiscal year 2001 financial statements.

3. Current telecommunications industry issues.

4. Administrative issues.

ACTION: Board of Directors Meeting.

Time and Date: 9 a.m., Wednesday, May 8, 2002.

Place: Conference Room 104-A, Jamie L. Whitten Federal Building, U.S. Department of Agriculture, 12th & Jefferson Drive, SW., Washington, DC.

Status: Open.

Matters to Be Considered: The following matters have been placed on the agenda for the Board of Directors meeting:

1. Call to order.

2. Action on Minutes of the February 12, 2002, board meeting.

3. Secretary's Report on loans approved.

4. Treasurer's Report.

5. Privatization Committee Report.

6. Governor's Remarks.

7. Adjournment.

FOR MORE INFORMATION CONTACT: Roberta D. Purcell, Assistant Governor, Rural Telephone Bank, (202) 720-9554.

Dated: April 25, 2002.
Hilda Gay Legg,
Governor, Rural Telephone Bank.

[FR Doc. 02-10722 Filed 4-26-02; 12:14 pm]

BILLING CODE 3410-FR-P